DEPARTMENT OF THE TREASURY

Public Meeting of the President's Advisory Panel on Federal Tax Reform

AGENCY: Department of the Treasury.

ACTION: Notice of meeting.

SUMMARY: This notice advises all interested persons of a public meeting of the President's Advisory Panel on Federal Tax Reform.

DATES: The meeting will be held on Wednesday, March 23, 2005, in the New Orleans, Louisiana area and will begin at 9:30 a.m.

ADDRESSES: The venue has not been identified to date. Venue information will be posted on the Panel's Web site at http://www.taxreformpanel.gov as soon as it is available.

FOR FURTHER INFORMATION CONTACT: The Panel staff at (202) 927-2TAX (927-2829) (not a toll-free call) or e-mail info@taxreformpanel.gov (please do not send comments to this box). Additional information is available at http://www.taxreformpanel.gov.

SUPPLEMENTARY INFORMATION: Purpose: This meeting is the fifth meeting of the Advisory Panel, and will explore perceptions about the fairness of the tax code and focus on how our tax system affects families.

Comments: Interested parties are invited to attend the meeting; however, no public comments will be heard at the meeting. Any written comments with respect to this meeting may be mailed to The President's Advisory Panel on Federal Tax Reform, 1440 New York Avenue NW., Suite 2100, Washington, DC 20220. On February 16, 2005, the Panel requested written comments in response to four specific questions about the Federal tax system. For additional information regarding this request for comments, please see http://www.taxreformpanel.gov/contact. All written comments will be made available to the public.

Records: Records are being kept of Advisory Panel proceedings and will be available at the Internal Revenue Service's FOIA Reading Room at 1111 Constitution Avenue, NW., Room 1621, Washington, DC 20024. The Reading Room is open to the public from 9 a.m. to 4 p.m., Monday through Friday except holidays. The public entrance to the reading room is on Pennsylvania Avenue between 10th and 12th streets. The phone number is (202) 622-5164 (not a toll-free number). Advisory Panel documents, including meeting announcements, agendas, and minutes, will also be available on http://www.taxreformpanel.gov.

Dated: March 4, 2005.
Mark S. Kaizen,
Designated Federal Officer.

[FR Doc. 05-4603 Filed 3-8-05; 8:45 am]

BILLING CODE 4810-25-P